DEPARTMENT OF COMMERCE

National Oceanic and Atmospheric Administration

[I.D. 052504A]

Pacific Fishery Management Council; Public Meetings

AGENCY: National Marine Fisheries Service (NMFS), National Oceanic and Atmospheric Administration (NOAA), Commerce.

ACTION: Notice of public meetings.

SUMMARY: The Pacific Fishery Management Council (Council) and its advisory entities will hold public meetings.

DATES: The Council and its advisory entities will meet June 13-18, 2004. The Council meeting will begin on Tuesday, June 15, 2004, at 8 a.m., reconvening each day through Friday. All meetings are open to the public, except a closed session will be held mid-day on Tuesday, June 15, 2004, to address litigation and personnel matters. The Council will meet as late as necessary each day to complete its scheduled business.

ADDRESSES: The meetings and hearing will be held at the Crowne Plaza Hotel, 1221 Chess Drive, Foster City, CA 94404; telephone 650-570-5700.

Council address: Pacific Fishery Management Council, 7700 NE. Ambassador Place, Suite 200, Portland, OR 97220.

FOR FURTHER INFORMATION CONTACT: Dr. Donald O. McIsaac, Executive Director; telephone: 503-820-2280

SUPPLEMENTARY INFORMATION: The following items are on the Council agenda, but not necessarily in this order.

A. Call to Order

1. Opening Remarks, Introductions

2. Roll Call

3. Executive Director's Report

4. Approve Agenda

B. Administrative Matters

1. Approval of Council Meeting Minutes

2. Council Communication Plan—Phase I (Communication During Council Session)

3. Update of Council Operating Procedures

4. Legislative Matters

5. Fiscal Matters

6. Appointments to Advisory Bodies, Standing Committees, and Other Forums

7. Workload Priorities and Draft September 2004 Council Meeting Agenda

C. Groundfish Management

1. Initial Consideration of Status of Fisheries and Inseason Adjustments (If Necessary)

2. NMFS Report

3. Final Consideration of 2004 Inseason Adjustments

4. Groundfish Essential Fish Habitat Environmental Impact Statement (EIS) Analytical Framework—Fishing Gear Impact Model Component.

5. Preliminary Consideration of Exempted Fishing Permit Applications for 2005-06

6. Monitoring Program Alternatives for the Shore-based Pacific Whiting Fishery

7. Update on Trawl Individual Quota Program

8. Adoption of 2005-2006 Groundfish Management Measures

D. Enforcement Issues

1. Preliminary Report on Contact to Violation Ratio in Groundfish Recreational Fisheries

E. Habitat

1. Current Habitat Issues

F. Coastal Pelagic Species Management

1. NMFS Report

2. Pacific Mackerel Harvest Guideline for 2004/2005 Season

3. Fishery Management Plan Amendment—Sardine Allocation

G. Marine Protected Areas

1. Federal Waters Portion of the Channel Islands National Marine Sanctuary Schedule Update

2. Scientific and Statistical Committee Review of Marine Reserves Issues

3. Update on Miscellaneous Marine Protected Area Activities

4. Monterey Bay National Marine Sanctuary Krill Harvest Ban Proposal

Schedule of Ancillary Meetings

Sunday, June 13, 2004

Scoping Session on Dedicated Access Privilege EIS—3 p.m.

Monday, June 14, 2004

Council Secretariat—8 a.m.

Groundfish Advisory Subpanel—8 a.m.

Groundfish Management Team—8 a.m.

Scientific and Statistical Committee—8 a.m.

Habitat Committee—9 a.m.

Essential Fish Habitat Environmental Impact Statement—Joint Session—9:30 a.m.

Legislative Committee—11 a.m.

Budget Committee—2 p.m.

Enforcement Consultants—4 p.m.

Tuesday, June 15, 2004

Council Secretariat—7 a.m.

California State Delegation—7 a.m.

Oregon State Delegation—7 a.m.

Washington State Delegation—7 a.m.

Groundfish Advisory Subpanel—8 a.m.

Groundfish Management Team—8 a.m.

Scientific and Statistical Committee—8 a.m.

Enforcement Consultants—As necessary.

Wednesday, June 16, 2004

Council Secretariat—7 a.m.

California State Delegation—7 a.m.

Oregon State Delegation—7 a.m.

Washington State Delegation—7 a.m.

Groundfish Advisory Subpanel—8 a.m.

Groundfish Management Team—8 a.m.

Enforcement Consultants—As necessary.

Thursday, June 17, 2004

Council Secretariat—7 a.m.

California State Delegation—7 a.m.

Oregon State Delegation—7 a.m.

Washington State Delegation—7 a.m.

Groundfish Advisory Subpanel—8 a.m.

Groundfish Management Team—8 a.m.

Enforcement Consultants—As necessary.

Friday, June 18, 2004

Council Secretariat—7 a.m.

California State Delegation—7 a.m.

Oregon State Delegation—7 a.m.

Washington State Delegation—7 a.m.

Groundfish Advisory Subpanel—As necessary.

Groundfish Management Team—8 a.m.

Enforcement Consultants—As necessary.

Although non-emergency issues not contained in this agenda may come before this Council for discussion, those issues may not be the subject of formal Council action during this meeting. Council action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Ms. Carolyn Porter at 503-820-2280 at least 5 days prior to the meeting date.

Dated: May 25, 2004.
Alan D. Risenhoover,
Acting Director, Office of Sustainable Fisheries, National Marine Fisheries Service.

[FR Doc. E4-1224 Filed 5-27-04; 8:45 am]

BILLING CODE 3510-22-S